DEPARTMENT OF THE TREASURY

United States Mint

Renewal for Currently Approved Generic Information Collection Request; Comment Request for Renewal of Customer Satisfaction and Opinion Surveys, Focus Group Interviews, and Web Usability Studies

AGENCY: United States Mint, Department of the Treasury.

ACTION: Notice and request for comments.

SUMMARY: The Department of the Treasury, as part of its continuing effort to reduce paperwork and respondent burden, invites the general public and other Federal agencies to take this opportunity to comment on the currently approved information collection 1525-0012, as required by the Paperwork Reduction Act of 1995. Currently, the United States Mint, a bureau of the Department of the Treasury, is soliciting comments on the United States Mint customer satisfaction and opinion surveys, focus group interviews, and web usability studies.

DATES: Written comments should be received on or before May 14, 2024 to be assured of consideration.

ADDRESSES: Direct all written comments to Manoj Pillai, Market Research Specialist, Sales and Marketing Directorate; United States Mint; 801 9th Street NW; Washington, DC 20220; (202) 354-7255 (this is not a toll-free number); or by email at BusinessAnalysisBranchExternalComm@usmint.treas.gov.

FOR FURTHER INFORMATION CONTACT: Requests for additional information or copies of the information collection package should be directed to Manoj Pillai, Market Research Specialist, Sales and Marketing Directorate; United States Mint; 801 9th Street NW, Washington, DC 20220; (202) 354-7255 (this is not a toll-free number); or by email at BusinessAnalysisBranchExternalComm@usmint.treas.gov.

SUPPLEMENTARY INFORMATION:

Title: United States Mint customer satisfaction and opinion surveys, focus group interviews, and web usability studies.

OMB Number: 1525-0012.

Abstract: The proposed customer satisfaction and opinion surveys, focus group interviews, web usability studies, and intercept surveys will allow the United States Mint to assess the acceptance of, potential demand for, and barriers to acceptance/increased and the needs and desires of customers for more efficient, economical services.

Current Actions: The United States Mint conducts customer satisfaction and opinion surveys, focus group interviews, and web usability studies to measure customer opinion and assess acceptance of, the potential demand for, and barriers to acceptance/increased demand for United States Mint products, and to determine the level of satisfaction of United States Mint customers and the general public.

Type of Review: Review of estimated annual respondents and estimated demand for current and future products, annual burden hours.

Affected Public: The affected public includes serious and casual numismatic collectors, dealers, and persons in the numismatic business, and the general public.

Estimated Number of Respondents: The estimated number of annual respondents is 106,760.

Estimated Total Annual Burden Hours: The estimated number of annual burden hours is 33,560.

Requests for Comments: Comments submitted in response to this notice will be summarized and/or included in the request for OMB approval. All comments will become a matter of public record. Comments are invited on:

(a) Whether the collection of information is necessary for the proper performance of the functions of the agency, including whether the information shall have practical utility.

(b) the accuracy of the agency's estimate of the burden of the collection of information;

(c) ways to enhance the quality, utility, and clarity of the information to be collected;

(d) ways to minimize the burden of the collection of information on respondents, including through the use of automated collection techniques or other forms of information technology; and

(e) estimates of capital or start-up costs and costs of operation, maintenance, and purchase of services to provide information.

Eric Anderson,
Executive Secretary, United States Mint.

Supporting Statement A—United States Mint Generic Clearance (January 31, 2025-January 31, 2028) 1525-0012

A. Justification

A1. Circumstances Necessitating the Collection of Information

This is a request for a three-year generic clearance to conduct customer satisfaction and opinion surveys and focus group interviews. This clearance will allow the United States Mint to comply with Executive Order 12862 and assist the United States Mint in fulfilling its mission.

The mission of the United States Mint is to serve the American people by manufacturing and distributing the highest quality circulating coinage and national medals for the Nation to conduct its trade and commerce, and by providing security over assets entrusted to the United States Mint.

The United States Mint is responsible for producing proof, uncirculated, circulating, and commemorative coins, and medals, and platinum, gold, and silver bullion coins in response to programs legislated by Congress in support of domestic trade and commerce, civic, philanthropic and national organizations.

To effectively accomplish the goals of these programs, it is crucial for the United States Mint to know and maintain awareness of customer preferences and needs by continually monitoring customer satisfaction.

However, because the time period between program authorization, production, and product shipment is often short, the United States Mint has not always had adequate time to obtain needed information about customer preferences and market conditions.

Therefore, the use of generic clearance to conduct customer satisfaction and opinion surveys and focus group interviews will allow the United States Mint to quickly obtain useful data to create more profitable programs and to provide better service and products to the American public.

The Supporting Statement contains authorization under which these data collections efforts are implemented. Supporting Statement B contains a list of anticipated projects that may be submitted for approval through the generic clearance process between January 31, 2025, and January 31, 2028. This clearance covers data collection efforts by the United States Mint. An internal review of all proposed data collections will be performed to ensure the following:

• Consistency with United States Mint mission and strategic objectives.

• Appropriate priority within United States Mint's Strategic Plan and/or United States Mint annual business plan.

• Technical adequacy in issues such as frame, sample selection, response rates, quality control in data gathering, recording, and analysis.

• Minimized burden on respondents.

• Confidentiality of individual responses.

• Consistency with this generic clearance.

• Consistency with applicable laws and regulations.

A2. Use of Data

A variety of data collection methods will be employed, including web-based surveys, telephone CATI (computer-assisted telephone interviews) systems, focus group interviews, and other appropriate means. The information will be used to:

• Determine customer opinions about the quality of products, pricing, delivery, and other services provided by the United States Mint.

• Determine customer needs and wants regarding future products and services.

• Define the next steps/actions plans to improve customer satisfaction and United States Mint sales operations.

A3. Use of Information Technology To Reduce Burden

• In past instances, the United States Mint has used CATI systems and web-based surveys (both provided by contractors) for data collection efforts. The CATI systems and web-based surveys increase efficiency and validity of surveys and decrease the time required for each interview and, consequently, the overall burden on respondents. These methodologies use computers to perform several critical quality assurance routines that are monitored by survey supervisors. These include tracking average interview length and refusal and termination rates.

A4. Efforts To Identify Duplication

Survey questions will address United States Mint related products and do not duplicate the efforts of other agencies/organizations. Our internal review and approval process ensures that duplication of data gathering within the United States Mint is eliminated.

Additionally, no other organization can conduct a survey of the United States Mint customers because our customer list is unique and secured by the United States Mint.

A5. Methods To Minimize Burden on Small Businesses or Other Small Entities

The data collections for the most part will be targeted to individuals. Although some customers are coin and hobby dealers that may operate a small business, all information requests will be voluntary. In addition, respondents will rarely be required to consult or access their records for detailed information.

A6. Consequences of Less Frequent Collection on Federal Programs or Policy Activities

The United States Mint would not be following Executive Order 12862 if some of the collection efforts were not undertaken. Also, the United States Mint operates as a self-funding agency, and the information and the changes resulting from data collections are crucial to United States Mint numismatic sales efforts.

A7. Special Circumstance Requiring Data Collection To Be Inconsistent With Guidelines in 5 CFR 1320.6

No special circumstances require the collection to be conducted in a manner inconsistent with the guidelines in 5 CFR 1320.6.

A8. Consultation With Individuals Outside of the Agency on Availability of Data, Frequency of Collection, Clarity of Instruction and Forms, and Data Elements

The United States Mint collaborates with professional marketing firms and contractors with expertise in marketing research, statistical analysis, and customer driven marketing. Their assistance is utilized in development, administration, and analysis research.

A9. Explanation of Decision To Provide Payment or Gift to Respondents

The United States Mint has compensated respondents only when it was necessary as an incentive for their extensive time or expertise. Specific justification has accompanied such requests. In the future, the United States Mint will use compensation for respondents only when it is deemed necessary.

A10. Assurance of Confidentiality of Responses

Survey respondents contacted by mail, fax, internet, or some other form of written communication will be advised on the survey form, cover letter, or other accompanying document that participation is voluntary, and that the data provided will be secured. As part of the introduction to a data gathering effort during telephone or personal interviews, the interviewer will inform the respondents that the survey is voluntary, and that each individual's responses will be secured. Focus group participants will verbally receive similar assurances during opening statements of the interview session.

A11. Justification of Sensitive Questions

Not applicable. Sensitive information is not collected.

A12. Estimated Burden of Information Collection

The following table is a breakdown of the estimated number of hours for a three-year generic clearance and estimated number of respondents for a three-year generic clearance.

However, due to changes in the market and possible new coin programs legislated by Congress, this figure could increase.

A13. Estimated Total Annual Burden to Respondents

The following table is a breakdown of estimated burden to respondents based on previous experience.

Research | Estimated number of hours (3 years) | Estimated number of respondents (3 years)
Naxion Customer Acquisition Research | 4,600 | 12,000
Naxion General Analytics Research | 13,000 | 39,000
Naxion Product Fulfillment Tracking Research Naxion Customer Satisfaction Tracking Research | 10,500 3,000 | 42,000 12,000
Naxion Focus Group Research | 2,100 | 1,400
Web Usability Research | 360 | 360
Total | 33,560 | 106,760

A14. Estimated Annualized Cost to the Federal Government

The following table is a breakdown of the estimated cost to the United States Mint based on previous experience.

Research | Annual estimated cost | Total estimated— 3 years
Naxion Customer Acquisition Research | $430,000 | $430,000
Naxion General Analytics Research | 747,000 | 2,241,000
Naxion Product Fulfillment Tracking Survey Naxion Customer Satisfaction Tracking Research | 177,000 381,000 | 531,000 1,143,000
Naxion Focus Group Research | 750,000 | 2,250,000
Web Usability Research | 567,000 | 1,701,000
Total | 3,052,000 | 8,296,000

A15. Reason for Change in Burden

There is no change.

A16. Plans for Tabulation Statistical Analysis and Publication

Information from data collection will not be published for statistical purposes.

A17. Reasons Why Displaying the OMB Expiration Date Is Inappropriate

Displaying the expiration date may cause problems with respondents for data collection programs that overlap the three-year authorization periods. In addition, respondents might be declined to refuse to participate if the form carries an authorization date that is expired or soon to expire.

A18. Exceptions to the Certification Statement on OMB Form 83-1

Not applicable. There are no exceptions for certification.

Supporting Statement B—United States Mint Generic Clearance (January 31, 2025-January 31, 2028) 1525-0012

B. Collection of Information Employing Statistical Methods

B1. Universe and Respondent Selection

Surveys covered under this generic clearance will vary regarding the universe and respondent selection. The potential universe for some surveys will include our active and inactive customers, while others may include far fewer.

However, because the United States Mint is attempting to expand its numismatic markets and practically all Americans are users of circulating coinage, the universe for some surveys may include the entire United States population base, with a statistically valid sample selected for research.

B2. Procedures for Collecting Information

The specific method of data collection for each survey will be provided to OMB before each survey is conducted.

B3. Methods To Maximize Response

The United States Mint has found that by sending an advance notice letter to those customers participating in a telephone survey the rate of response can be increased and will employ this technically when possible and cost effective. The United States Mint will employ procedures to review and test questions by survey experts to ensure that questions and instructions are clear, relevant, and unambiguous. Surveys employing non-response follow-up techniques will use multiple contacts by telephone and/or additional mailing of the questionnaire to ensure an adequate response.

B4. Testing of Procedures

In most cases, a pretest of the data collection instruments will be conducted prior to its use. Pretests will include review by knowledgeable United States Mint staff and consultants. In the case of telephone surveys, the pretest will include monitoring of interviewers and respondents by United States Mint staff and/or consultants prior to the actual survey. No pretest will include provisions for contacting more than nine respondents.

B5. Contacts for Statistical Aspects and Data Collection

The contact person for questions regarding any statistical aspects employed or data collection procedures used will be provided to OMB before each survey. Administrative questions regarding the Mint use of this generic clearance should be directed to Manoj Pillai; Sales and Marketing, 5th Floor; United States Mint; 801 9th Street NW; Washington, DC 20220; or by email at BusinessAnalysisBranchExternalComm@usmint.treas.gov.

[FR Doc. 2024-05474 Filed 3-14-24; 8:45 am]

BILLING CODE 4810-37-P